DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: American Community Survey.

OMB Control Number: 0607-0810.

Form Number(s): ACS-1, ACS-1(SP), ACS-1(PR), ACS-1(PR)SP, ACS-1(GQ), ACS-1(PR)(GQ), GQFQ, ACS CAPI (HU), ACS RI (HU), and AGQ QI, AGQ RI.

Type of Request: Regular Submission.

Number of Respondents: 3,760,000 for the initial interview and 45,200 for reinterview.

Average Hours per Response: 40 minutes for the average household questionnaire.

Burden Hours: The estimate is an annual average of 2,455,868 burden hours. The table below provides the calculation for this estimate.

Data collection operation | Forms or instrument used in data collection | Annual estimated number of respondents | Estimated minutes per respondent by data collection activity | Annual estimated burden hours
I. ACS Household Questionnaire—Paper Mailout/Mailback | ACS-1, ACS-1(SP), ACS-1PR, ACS-1PR(SP) | 3,540,000 | 40 | 2,360,000.
ACS Household CAPI—Personal Visit Non-response Follow-up | CAPI HU | [698,000 included in I.] | [40] | [466,000 included in I.]
ACS Household internet | Internet HU | [712,000 included in I.] | [40] | [475,000 included in I.]
II. ACS GQ Facility Questionnaire CAPI—Telephone and Personal Visit | CAPI GQFQ | 20,000 | 15 | 5,000.
III. ACS GQ CAPI Personal Interview or Telephone, and—Paper Self-response | CAPI, ACS-1(GQ), ACS-1(GQ)(PR) | 200,000 | 25 | 83,333.
IV. ACS Household Reinterview—CATI/CAPI | ACS HU-RI | 43,200 | 10 | 7,200.
V. ACS GQ GQ-level Reinterview—CATI/CAPI | ACS GQ-RI | 2,000 | 10 | 335.
Totals |  | 3,805,200 | N/A | 2,455,868.

Needs and Uses: The U.S. Census Bureau requests authorization from the OMB for revisions to the American Community Survey (ACS).

The ACS is one of the Department of Commerce's most valuable data products, used extensively by businesses, nongovernmental organizations (NGOs), local governments, and many federal agencies. In conducting this survey, the Census Bureau's top priority is respecting the time and privacy of the people providing information while preserving its value to the public.

In 2020, the ACS will adopt the final version of the race and Hispanic origin questions that will be implemented for the 2020 Census. This change will make the ACS consistent with 2020 Census data on this topic. The ACS will also change the instruction for reporting babies' ages to match the 2020 Census. Ongoing research suggests the instructions for reporting infants creates challenges for some respondents. Cognitive testing demonstrated the wording for the age instruction is unclear and confusing to respondents. Details about all of the questions planned for the 2020 Census and the American Community Survey are available at https://www.census.gov/library/publications/2018/dec/planned-questions-2020-acs.html.

The ACS self-response rates in 2010, a decennial census year, were higher than usual in the first few months of the year but were lower than usual in the spring and summer months, when the 2010 Census was underway. The increased self-response rates early in the year were attributed to decennial census communications, while the decreased rates later in the year were attributed to respondent confusion, as respondents had already filled out their decennial census form and did not understand that the ACS was a separate data collection. Prior research suggests that during a decennial census year, ACS mail materials such as envelopes and letters should be revised to distinguish the ACS from the census. For the 2020 ACS data collection year, the Census Bureau plans to modify the mail package contents, field representative flyers, scripts for the Interactive Voice Recognition system, and frequently asked questions to better communicate to respondents that the ACS is a separate data collection from the 2020 Census and that respondents selected for the ACS should complete both the ACS and the 2020 Census.

As a result of the 2018 Mail Materials Test, the Census Bureau plans to implement new mail materials designed to better emphasize the benefits of survey participation. Included in the changes are the use of updated logos on the envelopes and letters to identify the mail more clearly as coming from the Census Bureau and the addition of “Open Immediately” on some of the envelopes. Additionally, bold lettering and boxes (callout boxes) are used to highlight elements of the materials to capture the attention of busy respondents who may not read the entire letter. The mandatory nature of the survey is highlighted by using bold text and isolating sentences about being mandatory in the materials. Some materials, such as the Frequently Asked Questions (FAQ) brochure are excluded from the mailings to simplify the materials and focus the attention of the respondent to what they need to do. Content from the FAQ brochure is included on the back of the letters. This information is new since the publication of the 60-day Federal Register Notice, Doc. 2018-22443, Volume 83, pages 52189-52190 on October 16, 2018.

To encourage self-response in the ACS, the Census Bureau sends up to five mailings to an address selected to be in the sample. The first mailing, sent to all mailable addresses in the sample, includes an invitation to participate in the ACS online and states that a paper questionnaire will be sent in a few weeks to those unable to respond online. Subsequent mailings serve as a reminder to respond to the survey, with a paper questionnaire included in the third mailing for those households that prefer to respond by mailing back the questionnaire. The Census Bureau may ask those who begin filling out the survey online to provide an email address, which would be used to send an email reminder to households that did not complete the online form. The reminder asks them to log back in to finish responding to the survey.

Some addresses are deemed unmailable because the address is incomplete or directs mail only to a post office box. The Census Bureau currently collects data for these housing units using Computer-Assisted Personal Interviewing. The Census Bureau plans to make the ACS online survey available to all housing units in the 50 states and the District of Columbia, including those with unmailable addresses. Residents in housing units with unmailable addresses will still be contacted by Census Bureau field representatives, but they will now be given the option to complete the survey online or by personal interview.

Affected Public: Individuals or households.

Frequency: Response to the ACS is on a one-time basis.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-06651 Filed 4-4-19; 8:45 am]

BILLING CODE 3510-07-P